DEPARTMENT OF AGRICULTURE

Forest Service

Lake Tahoe Basin Management Unit and Tahoe National Forest, CA; Calpeco 625 and 650 Electrical Line Upgrade Project EIS/EIS/EIR

AGENCY: Forest Service, USDA.

ACTION: Notice of intent to prepare a joint environmental impact statement/report.

SUMMARY: Notice is hereby given that the USDA Forest Service (USFS), Lake Tahoe Basin Management Unit (LTBMU), together with the Tahoe Regional Planning Agency (TRPA), and the California Public Utilities Commission (CPUC) will prepare a joint Environmental Impact Statement (EIS), EIS, and Environmental Impact Report (EIR) (EIS/EIS/EIR; the nature of this type of document is described further below) to disclose the impacts associated with the following proposed action: California Pacific Electric Company (Calpeco) is proposing to upgrade their existing 625 and 650 60 kV transmission lines to 120 kV in order to maintain a safe and reliable electrical transmission system for the north Lake Tahoe area, while accommodating currently-expected normal growth in the area. The 650 line upgrade would involve rebuilding an approximately 10-mile section of transmission line from Truckee substation to the Kings Beach Diesel Generation Station. The majority of this line would be replaced within its current alignment. The 625 line upgrade would include approximately 15 miles of line from the Kings Beach Switching Station to the Tahoe City Substation. A significant portion of the existing 625 Line would be realigned to a location that parallels Mount Watson Road (also called Fiberboard Highway), an existing National Forest System road. The USFS LTBMU is the lead federal agency for the preparation of this EIS in compliance with National Environmental Policy Act (NEPA) and all other applicable laws, executive orders, regulations, and direction; the TRPA is the lead agency for preparation of an EIS in compliance with TRPA's Compact and Code of Ordinances and all other applicable laws and regulations; and the CPUC is the lead State of California agency for preparation of an EIR in compliance with the California Environmental Quality Act (CEQA) and all other applicable laws and regulations (hence the document's designation as an EIS/EIS/EIR). All three agencies have determined that an EIS/EIS/EIR is needed in order to effectively analyze the proposal and evaluate impacts. In addition, the U.S. Army Corps of Engineers (USACE), as a federal cooperating agency, will be responsible for the scope and content of the NEPA portion of the environmental document as it pertains to lands within the jurisdictional boundaries of the agency for the project. The USFS, Tahoe National Forest will be responsible for the scope and content of the NEPA portion of the environmental document as it pertains to lands within the jurisdictional boundaries of that agency (outside of the LTBMU).

The project is scheduled to be completed in three phases, with initial construction beginning as early as 2013 and the final phase planned for completion in 2019.

DATES: Comments concerning the scope of the analysis must be received by May 10, 2012. The draft EIS/EIS/EIR is expected in January 2013 and the final EIS/EIS/EIR is expected in July 2013.

ADDRESSES: Send written comments to Calpeco 625 and 650 Electrical Line Upgrade Project, Tahoe Regional Planning Agency, P.O. Box 5310, Stateline, NV 89449, Attention: Wendy Jepson. Comments may also be sent via email to wjepson@trpa.org, or via facsimile to 775-588-4527.

FOR FURTHER INFORMATION CONTACT: Robert Rodman, Lands Officer, at 530-543-2613 or email rrodmanjr@fs.fed.us. Additional project information, including maps, is available on the LTBMU web site at http://www.fs.usda.gov/projects/ltbmu/landmanagement/projects under Calpeco 625 and 650 Electrical Line Upgrade Project.

Individuals who use telecommunication devices for the deaf (TDD) may call the Federal Information Relay Service (FIRS) at 1-800-877-8339 between 8 a.m. and 8 p.m., Eastern Time, Monday through Friday.

SUPPLEMENTARY INFORMATION: On January 1, 2011, Calpeco purchased the California electric service territory from Sierra Pacific Power Company. The physical boundaries of the service territory include the California Lake Tahoe Basin and extend north to Portola and Loyalton and south to Walker in Mono County. The service territory includes the north Lake Tahoe electric transmission and distribution system.

The existing north Lake Tahoe transmission system is a loop comprised of a series of 60 kV and 120 kV transmission lines running from Truckee to Squaw Valley to Tahoe City to Kings Beach and then back to Truckee. The following lines comprise this loop:

• One 60 kV transmission line (609 Line) and one 120 kV transmission line (132 Line) from Truckee to Squaw Valley

• One 60 kV transmission line from Tahoe City to Squaw Valley (629 Line)

• One 60 kV transmission line from Kings Beach to Tahoe City (625 Line)

• One 60 kV transmission line from Truckee to Kings Beach (650 Line)

Electrical demand in the area served by Calpeco's north Lake Tahoe system is the greatest during the winter months, and typically peaks during the week between Christmas and the New Year holidays as a result of electric heating and ski resort loads. During power outages in the north Lake Tahoe area additional, or back-up power is provided by the Kings Beach Diesel Generation Station, which is capable of providing 11 MVA (mega volt-amperes ¹) of additional capacity. It is currently the only source of the system's ability to maintain the current maximum system loads while experiencing an outage on any one of the four legs of the system (single-contingency reliability).

¹ A volt-ampere (VA) is a unit used to express the power in an electrical circuit and is very similar to a watt.

Purpose and Need for Action

The north Lake Tahoe electric system must be able to supply the maximum load at adequate voltage levels and without overloading the system components (“normal capacity”.) Even though the system will not incur maximum load levels at all times, it must be capable of supplying peak loads whenever they occur. The non-coincident peak levels are the maximum loads incurred for this particular area. Industry-accepted criteria also require the system to supply peak loads with any one component out of service. This situation is referred to as “reliable capacity” and is why non-coincident peak levels are used to determine capacity needs.

Calpeco is proposing the 625 and 650 Electrical Line Upgrade Project for the purpose of maintaining a safe and reliable transmission system for the north Lake Tahoe area, while accommodating currently-expected normal growth in the area. Presently, the north Lake Tahoe transmission system does not have adequate single-contingency reliability, meaning, if one of several critical lines is lost as a result of an intense storm event, fire, or downed trees, a severe and sustained power outage could occur in the system service area. Currently, the 625 Line experiences the most outages in the north Lake Tahoe transmission system due to snow loading and downed trees. Single-contingency reliability can be achieved by upgrading the 625 Line and the 650 Line to 120 kV conductors and insulators to allow greater capacity in each line. If one of the critical lines is lost, adequate capacity would be available in the remaining lines to continue providing service to the system. Utilizing steel poles to replace the existing wood poles would enhance the reliability of the lines because they are more resistant to damage, including from wildfire. Increasing the reliability and resilience of the north Lake Tahoe system would reduce the need to activate the Kings Beach Diesel Generation Station. Due to limited total annual operating hours imposed by the facility's permit to operate issued by the Placer County Air Pollution Control District, the preferred use of the Kings Beach Diesel Generation Station is to reserve the operating hours for multiple-contingency events (outages on multiple legs of the system).

Additionally, significant portions of the 625 Line alignment have no established roads allowing ready access to the polesa and conductor (i.e., cable that carries the electricity). As a result, it is a challenge to repair and maintain much of the 625 Line, especially in the winter when heavy snow can further complicate access.

Proposed Action

The proposed action consists primarily of an upgrade of the 625 and 650 Lines and associated substations to 120 kV to allow the entire transmission loop to operate at 120 kV, allowing for a total capacity of 114 MVA. However, there are supporting elements to this primary activity. The six primary components of the proposed project are described below, followed by additional information on further elements of project implementation.

Primary Project Components

1. Removal and Reconstruction of the Existing 625 Line

As part of the upgrade to 120 kV for the north Lake Tahoe system, Calpeco is proposing to reconductor (i.e., old electrical line is replaced with new line) and reroute the 625 Line with the objective that the new conductor (i.e., wire along the towers) can accommodate 120 kV capacity and to align more closely with the existing roadways in the Project area. The removal of the existing 625 Line would involve approximately 15 miles of conductor and 341 wooden poles. The new 120 kV 625 Line would consist of 300 steel poles and 16 miles of new 397.5 thousand circular mil (MCM ²) all aluminum (AA ³) conductor within a new 40-foot-wide permanent right-of-way. An approximately 10-mile portion would generally parallel Mount Watson Road, a National Forest System road also known as the Fiberboard Highway. This change is intended to increase access for construction and maintenance activities.

² MCM stands for “thousand circular mil”, a unit of measurement used to express large conductor sizes. The acronym Kcmil is also frequently used. The first “M” in MCM stands for the Roman numeral for 1,000, the “C” stands for “circular”, and the second “M” stands for “mil”. A mil is a unit of measurement equal to 0.001 inches (i.e., one one-thousandth of an inch). MCM or Kcmil is an area measurement and expresses the area of a cross section of a cable (not a linear diameter or radius measurement). 1 MCM = 0.5067 square millimeters. Therefore, the 397.5 MCM AA conductor used for the proposed project has a cross sectional area of 201.4 square millimeters. The diameter of this conductor is approximately 0.72 inch.

³ The term “all aluminum conductor” indicates that the wire/cable carrying electricity in the conductor is made entirely of aluminum, as opposed to copper or some other material.

2. Rebuild of the Existing 650 Line

Approximately 10 miles of existing 650 Line would be rebuilt in its existing right-of-way and alignment. This section would consist of approximately 225 steel poles and 21 span-guy poles (these poles allow guy wires to span objects such as roads and water features). Poles would generally be placed 10 feet from the existing poles (which would be removed, as would occur for all project elements where poles are replaced), but in some areas new poles could be further from the existing poles to best support the system design. The 650 Line would be reconductored with 397.5 MCM AA conductor to allow transmission at a 120 kV capacity. Although the new conductor would be installed, it would not be operated at 120 kV levels until all elements of the system are completed.

3. Realignment of 650 Line Segments

Two minor segments of the 650 Line would be removed; the segment originating at the Truckee Substation and the segment that currently connects the Brockway Substation with the Kings Beach Switching Station (which would be rebuilt as the Kings Beach Substation). Existing co-located telecommunications and/or cable lines at the Truckee Substation would be transferred to the new poles. At the Kings Beach/Brockway Substations the existing poles with telecommunications/cable lines would be left in place and poles would be topped (the extra height that accommodated the 60 kV line would no longer be needed).

4. Rebuild of the Northstar Tap Into a Fold

A “fold” allows for electrical service to be maintained at a substation in the event of an interruption in service on either side of the transmission line feeding it. The existing 60kV Northstar Tap would be rebuilt into a line fold tying into the existing terminals. This activity would require replacement of approximately 14 wood poles with steel poles and approximately 0.5 miles of 397.5 MCM AA conductor to allow for the line tap reconfiguration to a fold.

5. Rebuild a 1.6 Mile Section of the Existing 132 Line

The 132 Line is an existing 120 kV line that extends from Truckee to Squaw Valley. In the town of Truckee, approximately 32 poles would be replaced and the line would be reconfigured to allow a double-circuit configuration with the 650 Line and allow operation at 120 kV. The new steel poles would generally be placed 10 feet from the current wood pole locations.

6. Upgrade, Modification, and/or Decommissioning of Six Substations and/or Switching Stations

The Northstar Substation and the Squaw Valley Substation, and the North Truckee Switching Station would be modified to accommodate the new 120 kV loop system. The Tahoe City Substation would be reconstructed to operate at 120 kV. The Kings Beach Switching Station would be rebuilt into a 120 kV substation, which would become the Kings Beach Substation. Additionally, the Brockway Substation would be decommissioned, equipment removed, and the land reclaimed. The future use of this land is unknown at this time. All substation and switching station improvements would take place within parcels owned by Calpeco, and except for the Kings Beach Substation, all work would occur within the existing fence lines of the facilities.

Other Project Components

Conductor

In most areas where reconductoring is proposed, the new conductor (i.e., electrical transmission cable) would be of the same type as the existing conductor; specifically, 397.5 MCM AA conductor. Therefore, the new conductor would have the same appearance as the existing conductor. An approximately 8.8-mile section of the 650 line between Kings Beach and Martis Valley currently has aluminum core steel reinforced (ACSR) conductor. However, the new 397.5 MCM AA conductor installed as part of the project would not look appreciably different from the existing ACSR conductor.

Transmission Poles

Calpeco would remove approximately 610 wood poles and replace them with approximately 569 new steel poles. The new poles along the 650 Line and 132 Line would generally be located within approximately 10 feet of the locations of existing wooden poles. However, some poles may be situated farther than 10 feet from the existing poles in order to maximize the efficiency of pole placement and to avoid sensitive resources or geological impediments. Some poles along the Northstar Fold would be relocated south of the existing Northstar Tap at a distance of 50 feet.

The new steel poles would be approximately 7 to 12 feet taller than the existing wooden poles, which are approximately 52 feet above ground level. On average, pole spacing would be 300 feet apart. In areas where poles need additional stability, guy wires may be connected to the poles. Diameter of the poles would vary between 15 inches to 19 inches at the base for poles buried in the ground, and 3 feet to 6 feet at the base for self-supporting poles that would be mounted on concrete foundations. For the most part, telecommunication/cable lines that are currently co-located on the existing wooden poles would be relocated onto the new poles.

Right of Way Requirements

To accommodate construction, temporary right-of-ways would be required for the new 625 Line, 650 Line, Northstar Fold, and 132 Line. The total temporary right-of-way needed would be approximately 221 acres. Calpeco would negotiate with landowners for temporary rights-of-way.

Calpeco currently holds easements from the USFS, USACE, Placer County, and various public and private landowners whose properties are crossed by the existing 625 Line, 650 Line, 132 Line, and Northstar Fold. The existing easements are on average 30 feet wide, but would need to be expanded to 40 feet for the 625 Line and 650 Line for operation and maintenance purposes. Calpeco would negotiate with the existing landowners in order to obtain a permanent easement of 40 feet for the new 625 Line and 650 Line. No land acquisition would be needed for the substation and switching station facilities because all new facilities would remain on existing Calpeco-owned parcels.

Construction

Project construction would require access, staging areas, temporary workspace, and involve various construction methods to install new poles and string and tension new conductor.

Staging Areas

Up to seven staging areas, ranging from 0.2 acre to 3.4 acres, would be required. The proposed staging areas are generally located in areas with pre-existing soil disturbance; however, some would require grading and vegetation removal. All locations would be fenced. Staging areas would be placed in the Joerger Road area near Truckee; Northstar Golf Course near SR 267; Kings Beach north of the Kings Beach Switching Station; Sawmill Flats accessed from Mount Watson Road; the Former Batch Plant accessed from Mount Watson Road; Fiberboard Highway accessed from Mount Watson Road; and Tahoe City accessed from Jackpine Street. Tree clearing would be required at the Kings Beach, Former Batch Plant, and Fiberboard Highway sites. The Tahoe City and the Joerger Road sites would also be used for helicopter landing areas.

Temporary Work Areas

Transmission line construction would require numerous work areas for pole work, stringing sites, and crossing structures (wood poles with netting placed over utilities and roadways for protection during cable pulling). An estimated total of approximately 426 acres of temporary disturbance for work areas would be required including roughly 910 work areas for pole installation, 20 work areas for crossing structures, and 78 work areas for stringing sites. Each pole work area would require approximately 0.25 to 0.5 acre, each crossing structure work area would require approximately 0.25 acre, and each stringing site would require a partial 300-foot diameter circle.

Grading and vegetation clearing would be required at most sites. Work areas would typically be accessed by truck using existing roads or new spur roads and the transmission line right of way; however in areas were terrain limits access, use of all-terrain vehicles or approach on foot may be required. Construction at the Tahoe City Substation would require a temporary work area outside of the substation fence line on a USFS-managed parcel.

Access and Spur Roads

Approximately six new spur roads ranging between 40 feet and 1,790 feet in length would be required for access from existing roads to the transmission lines' right of way. Access roads requiring improvement would be graded level and would generally be 12 feet to 25 feet wide.

Helicopter Access

Calpeco is proposing to remove the existing 625 Line by helicopter if overland access is not feasible. Helicopters would also be used to deliver and remove construction material from areas with rugged terrain or environmentally sensitive areas. Helicopter landing areas have been proposed at the Joeger Road Staging Area and Kings Beach Staging Area.

Phasing and Schedule

The proposed action would be constructed in three phases as follows:

Phase 1: 650 Line Rebuild

Phase 1 includes rebuilding/reconductoring the 650 Line, 132/650 Line Double-Circuit, and upgrading the structures and conductor to 120 kV capacity from Truckee to North Star, and North Star to Kings Beach. Phase 1 also involves rebuilding the existing 60 kV Northstar tap into a line fold tying into the existing terminals, and the installation of a transfer trip on the 609 Line and the installation of capacitor banks at the Tahoe City Substation to address the immediate issue of low-voltage conditions. This phase is the most critical for system reliability and construction of elements of this phase could begin as early as fall of 2013 with the improvements completed and in operation in 2014.

Phase 2: Upgrade the 650 Line Terminations to 120 kV Operation

The purpose of Phase 2 is to enable the upgraded 650 Line to operate at 120 kV. Phase 2 includes improvements to the North Truckee, Northstar and Kings Beach substations. This phase would also include the decommissioning of the Brockway Substation with a re-routing of the 14.4 kV distribution feeders to the Kings Beach Substation. Construction of this phase is planned for completion in 2016.

Phase 3: 625 Line Reconductor and Relocation

Phase 3 involves the rebuild of the 625 Line and improvements to complete the 120 kV loop. Phase 3 includes improvements to the Tahoe City, Kings Beach, and Squaw Valley substation. Completion of Phase 3 would allow for the entire loop to operate at 120 kV, including the 629 Line between Truckee and Tahoe City that had previously been upgraded with 120 kV facilities. Construction of this phase is planned to begin in 2016 with completion and operation planned for 2019.

Possible Alternatives

The EIS/EIS/EIR will evaluate alternatives at an equal level of detail. The alternatives likely to be evaluated generally include: (1) A No Action Alternative; (2) the Proposed Action; (3) the Proposed Action, but rebuilding the 625 line in its current location with a 40-foot access road; and (4) the Proposed Action, but use of a double-circuit line for the 625 and 650 Lines east of SR 267. Additional alternatives may be identified that address significant issues brought forward by agencies or the public during the scoping process.

Lead and Cooperating Agencies

The USFS LTBMU, TRPA, and CPUC will be joint lead agencies in accordance with 40 CFR 1505.1(b) and are responsible for the preparation of the EIS/EIS/EIR. The USACE will be a cooperating agency responsible for ensuring compliance with the scope and content of the NEPA portion of the joint EIS/EIS/EIR as it pertains to lands within the jurisdictional boundaries of the agency.

Responsible Official

The USFS responsible officials for the preparation of the EIS/EIS/EIR are Nancy Gibson, Forest Supervisor, Lake Tahoe Basin Management Unit, and Tom Quinn, Forest Supervisor, Tahoe National Forest.

Nature of Decision To Be Made

The Forest Supervisor for the LTBMU and the Forest Supervisor for the Tahoe National Forest will decide whether to approve the proposed action, an alternative to the proposed action, or take no action to allow the upgrade of the Calpeco 625 and 650 transmission lines and any related facilities on National Forest System lands managed by the USFS within their respective jurisdictions. Once the decision is made, the USFS will publish a record of decision to disclose the rationale for project approval, approval of an alternative, or denial of approval.

Permits or Licenses Required

• USFS Special Use Authorization and compliance with Section 7 of the Endangered Species Act and Section 106 of the National Historic Preservation Act

• USACE Section 404 of the Clean Water Act, Individual or Nationwide Permit

• TRPA Project Permit

• CPUC Permit to Construct

• California Department of Fish and Game

Section 1602 Streambed Alteration Agreement and

Section 2081 Incidental Take Permit

• California Department of Forestry and Fire Protection, Timber Harvest Plan (for trees removed during project construction)

• California State Water Resources Control Board

Water Quality Order No. 99-08—National Pollutant Discharge Elimination System (NPDES) General Permit for Stormwater Discharges associated with construction activity

Water Quality Order No. 2003-0003—Statewide General Waste Discharge Requirements for discharges to land with a low threat to water quality.

• Lahontan Regional Water Quality Control Board,

Section 401 Water Quality Certification,

Board Order No. R6T-2007-0008—Waiver of Waste Discharge Requirements Related to Timber Harvest and Vegetation Management Activities,

Board Order No. R6T-2005-2007—Waste Discharge Requirements and NPDES General Permit No. CAG616002

Board Order No. R6T-2008-0023—Renewed Waste Discharge Requirements and NPDES General Permit for Limited Threat Discharges to Surface Waters

• California Department of Transportation Encroachment Permit

• Placer County and Nevada County Special Use Permits/Modification to Existing Special Use Permit

• Placer County Air Pollution Control District Permit to Construct and Permit to Operate

• Northern Sierra Air Quality Management District Permit to Construct and Permit to Operate

• Town of Truckee Encroachment Permit

Scoping Process

This notice of intent initiates the scoping process, which guides the development of the environmental impact statement. Two public scoping meetings will be conducted to provide federal, state, and local agencies, and individuals and organizations with the opportunity to learn more about the proposed action and to express oral comments about the content of the EIS/EIS/EIR, in addition to this opportunity to submit written comments. The scoping meetings will be held at the following times and locations:

Meeting on April 17, 2012 beginning at 6 p.m. at the North Tahoe Event Center, 8318 North Lake Boulevard, Kings Beach, CA 96143

Meeting on April 19, 2012 beginning at 6 p.m. at the Truckee Ranger District offices, 10811 Stockrest Springs Road, Truckee, CA 96161

It is important that reviewers provide their comments at such times and in such manner that they are useful to the agency's preparation of the EIS/EIR/EIR. Therefore, comments should be provided prior to the close of the comment period and should clearly articulate the reviewer's concerns and contentions.

Comments received in response to this solicitation, including names and addresses of those who comment, will be part of the public record for this proposed action. Comments submitted anonymously will be accepted and considered, however.

Dated: April 3, 2012.
Nancy J. Gibson,
Forest Supervisor, Lake Tahoe Basin Management Unit.
Dated: March 30, 2012.
Tom Quinn,
Forest Supervisor, Tahoe National Forest.

[FR Doc. 2012-8579 Filed 4-9-12; 8:45 am]

BILLING CODE 3410-11-P